DEPARTMENT OF HEALTH AND HUMAN SERVICES

Administration for Children and Families

Submission for OMB Review; Office of Community Services (OCS) Community Economic Development (CED) Standard Reporting Format (Office of Management and Budget); (OMB) #0970-0386)

AGENCY: Office of Community Services (OCS), Administration for Children and Families (ACF), U.S. Department of Health and Human Services (HHS).

ACTION: Request for public comments.

SUMMARY: OCS is requesting a three-year extension of the semi-annual reporting format for CED grant recipients, the Performance Progress Report (PPR), which collects information regarding the outcomes and management of CED projects (OMB #0970-0386, expiration February 28, 2023). There are minor changes requested to the form to provide clarity to users completing the form.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing infocollection@acf.hhs.gov. Identify all emailed requests by the title of the information collection.

SUPPLEMENTARY INFORMATION:

Description: OCS will continue collecting key information about projects funded through the CED program. The legislative requirement for this program is in Title IV of the Community Opportunities, Accountability and Training and Educational Services Act (COATS Human Services Reauthorization Act) of October 27, 1998, Public Law 105-285, section 680(b) as amended. The PPR collects information regarding the outcomes and management of CED projects. OCS will use the data to critically review the overall design and effectiveness of the program.

The PPR will continue to be administered to all active grant recipients of the CED program. Grant recipients will be required to use this reporting tool for their semi-annual reports to be submitted twice a year. Through a previous renewal, the current PPR replaced both the annual questionnaire and other semi-annual reporting formats, which resulted in an overall reduction in burden for the grant recipients, significantly improved the quality of the data collected by OCS, and allowed grant recipients to become accustomed to this format. OCS seeks to renew this PPR to continue to collect quality data from grant recipients. To ensure the burden on grant recipients is not increased, but that the information collected demonstrates the full impact of the program, OCS has conducted an in-depth review of the forms and requests minor changes to the PPR to provide clarity to users filling out the form.

Respondents: Active CED Grant Recipients.

Annual Burden Estimates
Instrument | Total number of respondents | Annual number of responses per respondent | Average burden hours per response | Annual burden hours
PPR for Current OCS-CED Grant Recipients | 91 | 2 | 1.5 | 273

Estimated Total Annual Burden Hours: 273.

Authority: Section 680(a)(2) of the Community Services Block Grant (CSBG) Act, 42 U.S.C. 9921.

Mary B. Jones,
ACF/OPRE Certifying Officer.

[FR Doc. 2022-21063 Filed 9-28-22; 8:45 am]

BILLING CODE 4184-24-P